DEPARTMENT OF HEALTH AND HUMAN SERVICES

Centers for Medicare & Medicaid Services

[CMS-9896-N2]

Virtual Meeting of the Ground Ambulance and Patient Billing Advisory Committee; Cancellation

AGENCY: Centers for Medicare & Medicaid Services (CMS), Health and Human Services (HHS).

ACTION: Notice.

SUMMARY: The Centers for Medicare & Medicaid Services is cancelling the virtual public meeting of the Ground Ambulance and Patient Billing, which was scheduled for January 17 and 18, 2023.

FOR FURTHER INFORMATION CONTACT: Shaheen Halim, CMS, by phone (410) 786-0641 or via email at gapbadvisorycommittee@cms.hhs.gov.

Press inquiries may be submitted by phone (202) 690-6145 or via email at press@cms.hhs.gov.

SUPPLEMENTARY INFORMATION: This notice announces the cancellation of the January 17 and 18, 2023 virtual public meeting of the Ground Ambulance and Patient Billing (GAPB) that was announced in the December 16, 2022 Federal Register (87 FR 77122 through 77123). The January 17 and 18, 2023 public meeting would have been the initial plenary meeting of the GAPB Advisory Committee. CMS will publish a notice in the Federal Register announcing the future, rescheduled dates on which the initial meeting of the GAPB Advisory Committee will take place no less than 15 calendar days before the meeting date. The meeting will be open to the public in accordance with the Federal Advisory Committee Act.

The GAPB Advisory Committee will make recommendations with respect to disclosure of charges and fees for ground ambulance services and insurance coverage, consumer protection and enforcement authorities of the Departments of Labor, Health and Human Services, and the Treasury (the Departments) and relevant States, and the prevention of balance billing to consumers. The recommendations shall address options, best practices, and identified standards to prevent instances of balance billing; steps that can be taken by State legislatures, State insurance regulators, State attorneys general, and other State officials as appropriate, consistent with current legal authorities regarding consumer protection; and legislative options for Congress to prevent balance billing.

The Administrator of CMS, Chiquita Brooks-LaSure, having reviewed and approved this document, authorizes Lynette Wilson, who is the Federal Register Liaison, to electronically sign this document for purposes of publication in the Federal Register.

Dated: January 12, 2023.
Lynette Wilson,
Federal Register Liaison, Centers for Medicare & Medicaid Services.

[FR Doc. 2023-00903 Filed 1-13-23; 4:15 pm]

BILLING CODE 4120-01-P